DEPARTMENT OF THE INTERIOR

Fish and Wildlife Service

[FWS-R9-MB-2009-N253] [91200-1231-9BPP-L2]

Information Collection Sent to the Office of Management and Budget (OMB) for Approval; OMB Control Number 1018-0121; Depredation Orders for Double-Crested Cormorants

AGENCY: Fish and Wildlife Service, Interior.

ACTION: Notice; request for comments.

SUMMARY: We (Fish and Wildlife Service) have sent an Information Collection Request (ICR) to OMB for review and approval. We summarize the ICR below and describe the nature of the collection and the estimated burden and cost. This ICR is scheduled to expire on December 31, 2009. We may not conduct or sponsor and a person is not required to respond to a collection of information unless it displays a currently valid OMB control number. However, under OMB regulations, we may continue to conduct or sponsor this information collection while it is pending at OMB.

DATES: You must send comments on or before December 28, 2009.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-0121.

Title: Depredation Orders for Double-Crested Cormorants, 50 CFR 21.47 and 21.48.

Service Form Number(s): None.

Type of Request: Extension of a currently approved collection.

Affected Public: Aquaculture producers, States, and tribes.

Respondent's Obligation: Required to obtain or retain a benefit.

Frequency of Collection: Annually for reports; ongoing for recordkeeping.

Activity | Number of annual respondents | Number of annual responses | Completion time per response | Annual burden hours
Report take of migratory bird species other than double-crested cormorants (21.47(d)(7); 21.48(d)(7)) | 1 | 1 | 1 hour | 1
Report take of species protected under Endangered Species Act (21.47(d)(8); 21.48(d)(8)) | 1 | 1 | 1 hour | 1
Written notice of intent to conduct control activities (21.48(d)(9)) | 12 | 12 | 3 hours | 36
Report of control activities (21.48(d)(10) and (11)) | 12 | 12 | 20 hours | 240
Report effects of management activities (21.48(d)(12)) | 9 | 9 | 100 hours | 900
Recordkeeping (21.47(d)(9)) | 500 | 500 | 7 hours | 3,500
Totals | 535 | 535 |  | 4,678

Abstract: This information collection is associated with regulations implementing the Migratory Bird Treaty Act (MBTA) (16 U.S.C. 703 et seq.). Under the MBTA, it is unlawful to take, possess, import, export, transport, sell, purchase, barter, or offer for sale, purchase, or barter, migratory birds or their parts, nests, or eggs, except as authorized by regulations implementing the MBTA.

The regulations at 50 CFR 21.47 (Aquaculture Depredation Order) authorize aquaculture producers and the U.S. Department of Agriculture (APHIS-Wildlife Services) in 13 States to take double-crested cormorants when the birds are found committing or about to commit depredations on commercial freshwater aquaculture stocks. The regulations at 50 CFR 21.48 (Public Resource Depredation Order) authorize State fish and wildlife agencies, the U.S. Department of Agriculture (APHIS-Wildlife Services), and federally recognized tribes in 24 States to take double-crested cormorants to prevent depredations on the public resources of fish, wildlife, plants, and their habitats.

Both 50 CFR 21.47 and 21.48 impose reporting and recordkeeping requirements on those operating under the depredation orders. We use the information collected to:

• Help assess the impact of the depredation orders on double-crested cormorant populations.

• Protect nontarget migratory birds or other species.

• Ensure that agencies and individuals are operating in accordance with the terms, conditions, and purpose of the orders.

• Help gauge the effectiveness of the orders at mitigating cormorant-related damages.

Comments: On August 13, 2009, we published in the Federal Register (74 FR 40835) a notice of our intent to request that OMB renew this ICR. In that notice, we solicited comments for 60 days, ending on October 13, 2009. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: November 17, 2009
Hope Grey,
Information Collection Clearance Officer, Fish and Wildlife Service.

FR Doc. E9-28327 Filed 11-25-09; 8:45 am

BILLING CODE 4310-55-S